DEPARTMENT OF JUSTICE

Antitrust Division

Notice Pursuant to The National Cooperative Research and Production Act of 1993—Open Platform for NVF Project, Inc.

Notice is hereby given that, on January 12, 2015, pursuant to Section 6(a) of the National Cooperative Research and Production Act of 1993, 15 U.S.C. 4301 et seq. (“the Act”), Open Platform for NVF Project, Inc. (“Open Platform for NVF Project”) has filed written notifications simultaneously with the Attorney General and the Federal Trade Commission disclosing changes in its membership. The notifications were filed for the purpose of extending the Act's provisions limiting the recovery of antitrust plaintiffs to actual damages under specified circumstances. Specifically, Array Networks, Inc., Milpitas, CA; ENEA Software AB, Kista, SWEDEN; KT, Seongnam City, GyeongGi-do, REPUBLIC OF KOREA; Midokura USA Inc., San Francisco, CA; Sonus Networks, Westford, MA; Xilinx, Inc., San Jose, CA; and ZTE Corporation, Shenzhen PEOPLE'S REPUBLIC OF CHINA, have been added as parties to this venture.

No other changes have been made in either the membership or planned activity of the group research project. Membership in this group research project remains open, and Open Platform for NVF Project intends to file additional written notifications disclosing all changes in membership.

On October 17, 2014, Open Platform for NVF Project filed its original notification pursuant to Section 6(a) of the Act. The Department of Justice published a notice in the Federal Register pursuant to Section 6(b) of the Act on November 14, 2014 (79 FR 68301).

Patricia A. Brink,
Director of Civil Enforcement, Antitrust Division.

[FR Doc. 2015-02360 Filed 2-5-15; 8:45 am]

BILLING CODE P